DEPARTMENT OF ENERGY

Federal Energy Regulatory Commission

Combined Notice of Filings #1

Take notice that the Commission received the following electric rate filings:

Docket Numbers: ER10-1186-012; ER10-1329-012; ER11-2731-005; ER11-3097-013.

Applicants: DTE Energy Supply, Inc., DTE Electric Company, DTE Energy Trading, Inc., DTE Garden Wind Farm, LLC, DTE Stoney Corners Wind Farm, LLC, St. Paul Cogeneration, LLC.

Description: Triennial Market Power Analysis for Central Region of DTE Energy Supply, Inc., et al.

Filed Date: 6/29/21.

Accession Number: 20210629-5267.

Comments Due: 5 p.m. ET 8/30/21.

Docket Numbers: ER10-1520-006; ER10-1521-006; ER10-1522-005; ER20-2493-001.

Applicants: Occidental Power Services, Inc., Occidental Power Marketing, L.P., Occidental Chemical Corporation, OTCF, LLC.

Description: Triennial Market Power Analysis for Central Region of Occidental Power Services, Inc., et al.

Filed Date: 6/29/21.

Accession Number: 20210629-5214.

Comments Due: 5 p.m. ET 8/30/21.

Docket Numbers: ER10-1581-025; ER10-2265-019; ER11-1846-010; ER11-1847-010; ER11-1850-010; ER11-2062-027; ER11-2175-005; ER11-2176-004; ER11-2598-013; ER11-3188-005; ER11-3418-007; ER11-4307-028; ER11-4308-028; ER12-224-006; ER12-225-006; ER12-2301-005; ER12-261-027; ER13-1192-007; ER17-764-005; ER17-765-005; ER17-767-005; ER18-1160-003.

Applicants: NRG Power Marketing LLC, Direct Energy Business, LLC, Direct Energy Business Marketing, LLC, Direct Energy Marketing Inc., Direct Energy Services, LLC, Energy Plus Holdings LLC, Gateway Energy Services Corporation, Green Mountain Energy Company, Independence Energy Group LLC, Long Beach Peakers LLC, NRG Cottonwood Tenant LLC, Reliant Energy Northeast LLC, SGE Energy Sourcing, LLC, Stream Energy Columbia, LLC, Stream Energy Delaware, LLC, Stream Energy Illinois, LLC, Stream Energy Maryland, LLC, Stream Energy New Jersey, LLC, Stream Energy New York, LLC, Stream Energy Pennsylvania, LLC, Stream Ohio Gas & Electric, LLC, XOOM Energy, LLC.

Description: Triennial Market Power Analysis for Central Region of Long Beach Peakers LLC, et al.

Filed Date: 6/29/21.

Accession Number: 20210629-5266.

Comments Due: 5 p.m. ET 8/30/21.

Docket Numbers: ER10-1874-013; ER19-9-007.

Applicants: Mankato Energy Center, LLC, Mankato Energy Center II, LLC.

Description: Triennial Market Power Analysis for Central Region of Mankato Energy Center, LLC, et al.

Filed Date: 6/29/21.

Accession Number: 20210629-5264.

Comments Due: 5 p.m. ET 8/30/21.

Docket Numbers: ER10-2742-016; ER14-153-010; ER14-154-010; ER16-517-005.

Applicants: Tilton Energy LLC, Gibson City Energy Center, LLC, Grand Tower Energy Center, LLC, Shelby County Energy Center, LLC, Southern Illinois Generation Company, LLC.

Description: Triennial Market Power Analysis for Central Region of Tilton Energy, LLC, et al.

Filed Date: 6/29/21.

Accession Number: 20210629-5265.

Comments Due: 5 p.m. ET 8/30/21.

Docket Numbers: ER17-1442-003.

Applicants: Axiall, LLC.

Description: Triennial Market Power Analysis for Central Region of Axiall, LLC.

Filed Date: 6/29/21.

Accession Number: 20210629-5215.

Comments Due: 5 p.m. ET 8/30/21.

Docket Numbers: ER21-1264-002.

Applicants: Duke Energy Indiana, LLC.

Description: Tariff Amendment: Amendment to Annual Reconciliation Filing to be effective 7/1/2020.

Filed Date: 6/29/21.

Accession Number: 20210629-5167.

Comments Due: 5 p.m. ET 7/20/21.

Docket Numbers: ER21-1848-000.

Applicants: Isabella Wind, LLC.

Description: Report Filing: Isabella Wind Supplemental MBR Cancellation Filing to be effective N/A.

Filed Date: 6/30/21.

Accession Number: 20210630-5000.

Comments Due: 5 p.m. ET 7/21/21.

Docket Numbers: ER21-2264-000.

Applicants: Terra-Gen Energy Services, LLC.

Description: Tariff Cancellation: Notice of Cancellation to be effective 6/30/2021.

Filed Date: 6/29/21.

Accession Number: 20210629-5213.

Comments Due: 5 p.m. ET 7/20/21.

Docket Numbers: ER21-2265-000.

Applicants: Southwest Power Pool, Inc.

Description: § 205(d) Rate Filing: 1885R11 Evergy Kansas Central, Inc. NITSA NOA to be effective 9/1/2021.

Filed Date: 6/29/21.

Accession Number: 20210629-5222.

Comments Due: 5 p.m. ET 7/20/21.

Docket Numbers: ER21-2266-000.

Applicants: Southwest Power Pool, Inc.

Description: § 205(d) Rate Filing: 1893R11 Evergy Kansas Central, Inc. NITSA NOA to be effective 9/1/2021.

Filed Date: 6/29/21.

Accession Number: 20210629-5240.

Comments Due: 5 p.m. ET 7/20/21.

Docket Numbers: ER21-2267-000.

Applicants: New England Power Pool Participants Committee.

Description: § 205(d) Rate Filing: June 2021 Membership Filing to be effective 6/1/2021.

Filed Date: 6/30/21.

Accession Number: 20210630-5001.

Comments Due: 5 p.m. ET 7/21/21.

Docket Numbers: ER21-2268-000.

Applicants: City of Independence, Missouri.

Description: Request For Waiver of Tariff Provisions, et al. of City of Independence Missouri.

Filed Date: 6/29/21.

Accession Number: 20210629-5259.

Comments Due: 5 p.m. ET 7/20/21.

Docket Numbers: ER21-2269-000.

Applicants: Orangeville Energy Storage LLC.

Description: § 205(d) Rate Filing: Revised Market-Based Rate Tariff Filing to be effective 8/30/2021.

Filed Date: 6/30/21.

Accession Number: 20210630-5012.

Comments Due: 5 p.m. ET 7/21/21.

Docket Numbers: ER21-2270-000.

Applicants: Jayhawk Wind, LLC.

Description: Baseline eTariff Filing: Filing of Market-Based Rate Application to be effective 8/30/2021.

Filed Date: 6/30/21.

Accession Number: 20210630-5018.

Comments Due: 5 p.m. ET 7/21/21.

Docket Numbers: ER21-2271-000.

Applicants: PJM Interconnection, L.L.C.

Description: § 205(d) Rate Filing: Original WMPA, Service Agreement No. 6105; Queue No. AG1-336 to be effective 6/21/2021.

Filed Date: 6/30/21.

Accession Number: 20210630-5032.

Comments Due: 5 p.m. ET 7/21/21.

Docket Numbers: ER21-2272-000.

Applicants: Golden Hills Wind Farm, LLC.

Description: Baseline eTariff Filing: Application for Market-Based Rate Authorization, Request for Related Waivers to be effective 8/30/2021.

Filed Date: 6/30/21.

Accession Number: 20210630-5044.

Comments Due: 5 p.m. ET 7/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2021.
Debbie-Anne A. Reese,
Deputy Secretary.

[FR Doc. 2021-14469 Filed 7-6-21; 8:45 am]

BILLING CODE 6717-01-P